DEPARTMENT OF JUSTICE

Notice of Lodging of Consent Decree Under the Clean Water Act

Notice is hereby given that on December 28, 2007, a proposed Consent Decree in United States and State of Indiana v. City of Fort Wayne, Indiana, Civ. No. 2:07-cv-00445, was lodged with the United States District Court for the Northern District of Indiana.

In this action, the United States seeks civil penalties and injunctive relief for violations of the Clean Water Act, 33 U.S.C. 1251, et seq., in connection with the City of Fort Wayne's operation of its municipal wastewater and sewer system. The City currently discharges approximately one billion gallons of untreated sewage per year from various locations into the St. Joseph, St. Mary's, and Maumee Rivers, both directly and through their tributaries. The Complaint alleges that the City's discharges, which occur approximately 60 times per year, violate the Clean Water Act, either because the discharges violate limitations and conditions in the City's National Pollutant Discharge Elimination System (NPDES) permit, or because the discharges are from point sources not authorized by the City's NPDES permit. The Complaint also asserts claims by the State of Indiana for comparable violations of state law.

Under the proposed Consent Decree, the City would be required to: (1) Implement injunctive measures to address combined sewer overflows (CSOs) and sanitary sewer overflows (SSOs), at a total cost of approximately $250 million; (2) pay the United States a civil penalty of $269,190; (3) perform a federal Supplemental Environmental Project (SEP) valued at $400,000; and (4) either pay the State of Indiana a civil penalty of $269,190, or pay the State a civil penalty of $26,190 and complete state SEPs costing at least $484,542. Under the proposed Consent Decree, the injunctive relief is to be implemented over an 18-year period and is designed to eliminate SSOs and reduce the number of CSOs to approximately one per year on the St. Joseph River and four per year on the St. Mary's and Maumee Rivers.

For a period of 30 days from the date of this publication, the Department of Justice will receive comments relating to the proposed Consent Decree. Comments should be addressed to the Assistant Attorney General, Environment and Natural Resources Division, and should refer to United States and State of Indiana v. City of Fort Wayne, Indiana, D.J. Ref. 90-5-1-1-07653. Comments should either be e-mailed to pubcomment-ees.enrd@usdoj.gov or mailed to P.O. Box 7611, Washington, DC 20044-7611.

The proposed Consent Decree may be examined at the Office of the United States Attorney, Northern District of Indiana, 5400 Federal Plaza, Suite 1500, Hammond, IN 46320-1843 (contact Assistant United States Attorney Wayne Ault (219/937-5500)), and at the U.S. Environmental Protection Agency, Region 5, 77 West Jackson Boulevard, Chicago, IL 60604-3590 (contact Associate Regional Counsel Nicole Cantello (312/886-2870)). During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611, or by e-mailing or faxing a request to Tonia Fleetwood (tonia.fleetwood@usdoj.gov, fax number (202) 514-0097, phone confirmation number (202) 514-1547). In requesting a copy from the Consent Decree Library, please enclose a check payable to the United States Treasury in the amount of $15.50 (25 cents per page reproduction cost) for a copy of the Consent Decree without appendices, or a check in the amount of $385.50 for the Consent Decree and all appendices. If the request is made by fax or e-mail, please forward a check in the appropriate amount to the Consent Decree Library at the address stated above.

William Brighton,
Assistant Chief, Environmental Enforcement Section, Environment and Natural Resources Division.

[FR Doc. 08-53 Filed 1-10-08; 8:45 am]

BILLING CODE 4410-15-M